DEPARTMENT OF STATE

[Public Notice 3596]

Bureau of Educational and Cultural Affairs Request for Grant Proposals: Small Grants Competition Designed To Promote Women's Leadership and Disability Issues in Latin America, the Caribbean and the Middle East

SUMMARY: The Office of Citizen Exchanges of the Bureau of Educational and Cultural Affairs announces a Small Grants Competition designed to promote Women's Leadership and Disability Issues in Latin America, the Caribbean and the Middle East. Public and private non-profit organizations meeting the provisions described in IRS regulation 26 CFR 1.501(c) may submit proposals for exchanges and training programs that address women's leadership or disability issues in a single country in South America, Central America, the Caribbean, or the Arabian Peninsula states of the Middle East.

Announcement Title and Number

All communications with the Bureau concerning this Request for Grant Proposals (RFGP) should refer to the announcement title “Small Grants Competition designed to promote Women's Leadership and Disability Issues in Latin America, the Caribbean and the Middle East” and reference number ECA/PE/C-01-38.

Overview

The Office of Citizen Exchanges, Bureau of Educational and Cultural Affairs (ECA) announces a small grants competition for community-based nonprofit, nongovernmental organizations and institutions that conduct programs focusing on women's leadership and disability issues. ECA seeks organizations that are interested in developing grassroots training programs and international exchanges in Latin America, the Caribbean or the Middle East. Only U.S. organizations that have not received prior funding directly from ECA are eligible to submit proposals.

The goal of this initiative is to provide support for small organizations or local chapters of national groups to expand the scope of their work and build or strengthen linkages with partner organizations in other countries. Programs should be designed so that the exchanges will operate on two levels: (1) They should enhance institutional partnerships and improve institutional capacity of the partner organizations, and (2) they should offer training sessions that include practical information and useful materials to enable the partners to conduct further training sessions after the grant period is over.

Competitive proposals will be creative and innovative with a clear implementation plan and well-articulated expected outcomes. Proposals should indicate that the program ideas were jointly developed between the American and foreign organization(s). Applicants should identify the foreign partner organization(s) and individuals with whom they are proposing to collaborate. Background information on the partner organization(s), and resumes for all American and foreign staff members and consultants should be included in the proposal.

The exchanges and training should combine elements of skill enrichment, experiential learning and exposure to American life and culture. The experiences should also provide Americans the opportunity to learn about and experience the culture of the partner's country. This program is not academic in nature; programs should be designed to provide practical, hands-on experience.

Program components may include, but are not limited to, “training of trainers (TOT),” job shadowing, hands-on workshops, internships, educational campaigns, consultations and short-term training. Orientation sessions must be included in the program and cultural programming may include mutually beneficial experiences hosted by local institutions and home stays with community members. The programming may take place in the United States and/or the partner country. Programs should be designed so that the sharing of information that occurs during the grant period will continue after the grant period is over. Strong proposals will have a clear, convincing plan outlining exactly how the program components will be carried out and how permanent results will be accomplished as a result of the grant. Proposals should be designed so that the majority of funding is directed toward participant program costs.

Organizations planning to submit a proposal must contact the program office for a consultation. Before calling, organizations should be ready to discuss a concrete concept specific to the guidelines supplied in this request for proposals.

For Latin America & the Caribbean, Laverne Johnson, ljohnson@pd.state.gov, (202) 619-5337.

For the Middle East/Arabian Peninsula states, James Ogul, jogul@pd.state.gov, (202) 205-0535.

Guidelines

To be considered for a grant award in this competition, the proposed training and exchange program must address one of the three themes listed below (Girls' Education, Women's NGO Development, or Disability Issues). ECA encourages potential grantees to be creative. The proposal narrative, excluding résumés and sample materials, should not exceed six (6) pages and should be double-spaced. Priority will be given to short (3 to 5 page) concise innovative proposals that are developed around the criteria outlined in the section called “Review Criteria” below. The budget should be contained on one page. Budget notes should be included as needed. The program start date should not be before June 1, 2001. Eligible countries are:

South America: Bolivia, Ecuador, Paraguay, Peru, Uruguay, Venezuela

Central America: Belize, Costa Rica, El Salvador, Guatemala, Honduras, Mexico, Nicaragua, Panama

Caribbean: The Bahamas, Barbados, Dominican Republic, Haiti, Jamaica, Trinidad

Middle East/Arabian Peninsula states: Bahrain, Kuwait, Oman, Qatar, Saudi Arabia, United Arab Emirates, Yemen

Women's Issues

Girls' Education: The proposed program plan should focus on promoting and understanding the current and potential role of women and girls in society (i.e. education practices, community responsibility, cultural and political life, historical contributions); and providing training opportunities for young women educators and community leaders to develop skills in leadership, public awareness and conflict resolution. Emphasis will be on exchanges and training for grassroots educational and community leaders with current experience and active involvement with girls' education issues. Grant funds may not be used for student/youth exchanges.

Women's NGO Development: Proposals should focus on culturally sensitive organizational management for grassroots women's NGOs, identification of core issues, long term planning, steps for the development and implementation of programs, and effectiveness training. Thematic topics may include leadership training, awareness, PR/media strategies, networking, coalition building, conducting educational campaigns, fundraising, volunteerism and community responsibility, and women's social issues.

Disability Issues

Disability Exchanges: The proposed program should target disability NGOs and institutions, individuals involved in disability awareness and rights issues and disabled persons. Possible themes and activities include, but are not limited to, PR/media, awareness, educational campaigns, community involvement, leadership, dealing with challenges and overcoming barriers, professional/occupational training, skillbuilding, and NGO development/management. Exchanges and training program plans may either address a range of disability issues (for example, awareness, educational campaigns and PR/media), or may focus more deeply on one specific area. Plans addressing multiple topics should clearly explain how the chosen topics are complementary.

Selection of Participants

Proposals should include an open, merit-based participant selection process. A sample application may be submitted with the proposal. ECA and the U.S. Embassies retain the right to nominate participants and to approve or reject participants recommended by the grantee institution. For exchanges to the U.S., priority must be given to foreign participants who have not previously traveled to the United States.

VISA Regulations

Foreign participants on programs sponsored by ECA are granted J-1 Exchange Visitor visas by the U.S. Embassy in the sending country. All programs must comply with J-1 visa regulations.

Project Funding

Funding available for the Small Grants Competition will be disbursed through grants to several organizations. Funding for each program is limited to $50,000. Priority will be given to grant proposals with budgets ranging from $15,000 to $40,000. Organizations should not submit a budget that exceeds $50,000 in costs to be paid by ECA, however the overall budget may exceed $50,000 through cost sharing by the U.S. and foreign partner organization(s). Approximately $250,000 has been allotted for this competition, but may be subject to change. ECA expects to announce the small grants awards recipients around late May 2001.

Budget Guidelines

Allowable costs include the following (see the Proposal Submission Instructions for sample budget line items and formatting instructions):

(1) General Program Expenses (i.e. consultants, room rental, and materials)

(2) Participant Program Expenses (i.e. international travel and per diem)

(3) Administrative Expenses (i.e. salaries, benefits, telephone/fax and indirect costs)

Review Process

In support of first-time applicants, the grant proposal, budget and review process has been modified for this competition. Proposals will be reviewed in two tiers. First, all proposals will be reviewed by a team of qualified staff from the Office of Citizen Exchanges and the respective Department of State regional bureaus. Second, the most competitive proposals will be forwarded to embassies overseas and to panels of State Department officers for formal advisory review. Non-finalists will be advised at this point in the process. Please follow the enclosed Request for Grant Proposal (RFGP) Proposal Submission Instructions (PSI). ECA will acknowledge receipt of all proposals and will review them for technical eligibility. Proposals will be deemed ineligible if they do not fully adhere to the guidelines stated herein and in the Solicitation Package. Final funding decisions will be made at the discretion of the Acting Assistant Secretary of State for Educational and Cultural Affairs. Final technical authority for assistance awards (grants or cooperative agreements) resides with the ECA Grants Officer.

Review Criteria

Technically eligible applications will be competitively reviewed according to the criteria stated below. Proposals should adequately address each area of review. These criteria are not rank ordered.

1. Quality of Program Idea and Ability to Achieve Objectives: Program objectives should be clearly and precisely stated. Proposal objectives should respond to the priority topics in this announcement and articulate the organization's ability to successfully carry out the objectives. U.S. and foreign staff and participant responsibilities should be outlined. A monthly timetable and schedule for the training session(s) should be included.

2. Cost Effectiveness and Cost Sharing: Administrative costs should be kept to a minimum. Proposals should maximize cost sharing through support and in-kind contributions from the U.S. and partner organization(s).

3. Program Evaluation: Proposals must include a plan and methodology to evaluate the program's successes, both as the activities unfold and at the program's conclusion. The evaluation plan should show a clear link between program objectives and expected outcomes and list performance indicators and measurement tools. A draft survey questionnaire may be attached to the proposal.

4. Support of Diversity: Proposals should demonstrate substantive support of the ECA's policy on diversity. Program content (orientation, evaluation, program sessions, resource materials, follow-on activities) and program administration (selection process, orientation, evaluation) should address diversity in a comprehensive and innovative manner. Applicants should refer to ECA's Diversity, Freedom and Democracy Guidelines on page four of the Proposal Submission Instructions (PSI).

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Public Law 106-113 requires that the governments of the countries described above do not have inappropriate influence in the selection process. Proposals should reflect advancement of these goals in their program contents, to the full extent deemed feasible.

Deadline for Proposals

The U.S. Department of State, Bureau of Educational and Cultural Affairs must receive all copies by 5 p.m. Washington, D.C. time on Thursday, April 19, 2001. Faxed documents will not be accepted at any time. The mailroom closes at 5:00 p.m.; no late submissions will be accepted. Documents postmarked by April 19, 2001, but received at a later date, will not be accepted. Each applicant must ensure that the proposals are received by the above deadline.

To Download an Application Package Via the Internet

The entire Application Package may be downloaded from ECA's website at http://exchanges.state.gov/education/rfps/.

Submissions

Applicants must follow all instructions given in the Application Package. The applicant's original proposal and ten (10) copies should be sent to: U.S. Department of State, Ref.: ECA/PE/C/EUR-01-38, Program Management, ECA/EX/PM, Room 534, 301 4th Street, SW., Washington, DC 20547.

Applicants must also submit the “Executive Summary” and “Proposal Narrative” sections of the proposal in MSWord on a 3.5″ diskette. ECA will transmit these files electronically to the Public Affairs Sections of the U.S. Embassies for review. Once the RFP deadline has passed, Bureau staff may not discuss this competition in any way with applicants until the proposal review process has been completed.

FOR FURTHER INFORMATION, CONTACT: By mail: United States Department of State, SA-44, Bureau of Educational and Cultural Affairs, Office of Citizen Exchanges (ECA/PE/C), Room 220, Washington, DC 20547, Attn: Small Grants Competition 2001, By phone: (202) 205-2209; By e-mail: smallgrants@pd.state.gov.

Interested applicants may request the Application Package, which includes the Request for Proposals (RFP) and the Proposal Submission Instructions (PSI). Please specify “Small Grants Competition” on all inquiries and correspondence. All potential applicants should read the complete announcement before sending inquiries or submitting proposals.

Notice

The terms and conditions published in this RFP are binding and may not be modified by any Bureau representative. Explanatory information provided by the Bureau or program officers that contradicts published language will not be binding. Issuance of the RFP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Notification

Final awards cannot be made until funds have been appropriated by Congress, allocated and committed through internal U.S. Department of State procedures.

Dated: March 2, 2001.
Helena Kane Finn,
Acting Assistant Secretary for Educational and Cultural Affairs, U.S. Department of State.

[FR Doc. 01-5768 Filed 3-7-01; 8:45 am]

BILLING CODE 4710-05-U